DEPARTMENT OF ENERGY

National Coal Council

AGENCY: Department of Energy.

ACTION: Notice of open meeting.

SUMMARY: This notice announces a meeting of the National Coal Council (NCC). The Federal Advisory Committee Act (Pub. L. 92-463, 86 Stat. 770) requires that public notice of these meetings be announced in the Federal Register.

DATES: Thursday, March 7, 2013, 9:00 a.m. to 12:00 p.m.

ADDRESSES: Hunton & Williams LLP, 2200 Pennsylvania Avenue NW., Washington, DC 20037.

FOR FURTHER INFORMATION CONTACT: Dr. Robert J. Wright, U.S. Department of Energy; 4G-036/Forrestal Building, 1000 Independence Avenue SW., Washington, DC 20585-1290; Telephone: 202-586-0429.

SUPPLEMENTARY INFORMATION: Purpose of Meeting: The March 2013 meeting of the National Coal Council.

Agenda:

1. Opening Remarks by NCC Chairman John Eaves

2. Howard Gruenspecht, U.S. Energy Information Administration: “The U.S. Energy Outlook”

3. Fred Palmer, NCC Coal Policy Committee Chairman: Presentation of Summary of Past Council Studies

4. Mike Duncan, President, American Coalition for Clean Coal Electricity

5. Jim Butz, Vice President of Product Management, Novinda Corp.: “Mercury Emissions Control at Coal-Based Generation Plants”

6. General Keith Alexander (Ret.): Presentation on “Cyber Security in the U.S.” (invited)

7. Adjourn

Public Participation: The meeting is open to the public. If you would like to file a written statement with the Council, you may do so either before or after the meeting. If you would like to make oral statements regarding any item on the agenda, you should contact Dr. Robert J. Wright, 202-586-0429 or Robert.wright@hq.doe.gov (email). You must make your request for an oral statement at least 5 business days before the meeting. Reasonable provision will be made to include oral statements on the scheduled agenda. The Chairperson of the Council will lead the meeting in a manner that facilitates the orderly conduct of business. Oral statements are limited to 10-minutes per organization and per person.

Minutes: The NCC will prepare meeting minutes within 45 days of the meeting. The minutes will be posted on the NCC Web site at http://www.nationalcoalcouncil.org/.

Issued at Washington, DC, on January 25, 2013.
LaTanya R. Butler,
Deputy Committee Management Officer.

[FR Doc. 2013-02167 Filed 1-31-13; 8:45 am]

BILLING CODE 6450-01-P